DEPARTMENT OF THE INTERIOR

Bureau of Land Management

[BLM_FRN_MO4500177410]

Notice of Intent to Prepare an Environmental Impact Statement for the Proposed Lisbon Valley Mining Company, LLC Copper Mine Plan of Operations Modification, San Juan County, Utah

AGENCY: Bureau of Land Management, Interior.

ACTION: Notice of intent.

SUMMARY: In compliance with the National Environmental Policy Act of 1969, as amended (NEPA), and the Federal Land Policy and Management Act of 1976, as amended (FLPMA), the Bureau of Land Management (BLM), Canyon Country District, Moab Field Office, Moab, Utah, intends to prepare an Environmental Impact Statement (EIS) to consider the effects of the Lisbon Valley Mining Company, LLC (LVMC) proposed plan of operations modification. This notice announces the beginning of the scoping process to solicit public comments and identify issues.

DATES: This notice initiates the public scoping process for the EIS. The BLM requests the public submit comments concerning the scope of the analysis, potential alternatives, and identification of relevant information and studies by June 27, 2024. To afford the BLM the opportunity to consider comments in the draft EIS, please ensure your comments are received prior to the close of the 30-day scoping period or 15 days after the last public meeting, whichever is later.

ADDRESSES: You may submit comments related to the plan of operations modification EIS by any of the following methods:

• Website: https://eplanning.blm.gov/eplanning-ui/project/2027164/510

• Mail: Bureau of Land Management, Moab Field Office, Lisbon Valley Mine Plan Modification EIS, 82 East Dogwood, Moab, Utah 84532

Documents pertinent to this proposal may be examined online at https://eplanning.blm.gov/eplanning-ui/project/2027164/510 and at the BLM Moab Field Office.

FOR FURTHER INFORMATION CONTACT: Jill Stephenson, Planning and Environmental Specialist, telephone: 435-249-2100; address: 82 East Dogwood, Moab, UT 84532; email: BLM_UT_MB_LVMC_EIS@blm.gov. Contact Ms. Stephenson to have your name added to our mailing list. Individuals in the United States who are deaf, deafblind, hard of hearing, or have a speech disability may dial 711 (TTY, TDD, or TeleBraille) to access telecommunications relay services for contacting Ms. Stephenson. Individuals outside the United States should use the relay services offered within their country to make international calls to the point-of-contact in the United States.

SUPPLEMENTARY INFORMATION: The Lisbon Valley Copper Mine is in the Lisbon Valley in San Juan County in southeast Utah. The mine, situated on Federal, State, and private lands, has been in operation under the ownership of multiple companies since 1998. LVMC has operated the mine under Plan of Operations Serial No. UTU 072499 (mine plan) since it obtained ownership in 2009. The mine plan boundary encompasses 4,480 acres, of which current operations cover 1,146 acres (BLM: 521 acres; State: 333 acres; and private: 292 acres) of disturbance. LVMC also conducts exploration activities within a 5,430-acre authorized boundary adjacent to the mine plan boundary under Exploration Plan of Operations Serial No. UTU 077879 (exploration plan). Federal, State, and private lands occur within the exploration plan boundary (BLM: 3,199 acres; State:1,056 acres; and private: 1,175 acres).

LVMC currently mines copper ore at the mine from mineralized zones in porous sandstones approximately 50 to 200 feet below the surface using conventional open pit mining methods. Waste rock material is hauled to existing waste rock storage areas or is used to backfill existing pits. The copper ore is hauled to a heap leach facility where it is crushed and stacked onto a heap leach pad. A low pH solution is sprayed onto the crushed ore and copper is leached out of the rock into solution. The resultant copper-laden solution is sent to adjacent process facilities where it undergoes solvent extraction and electrowinning processing. The final product is copper cathode of a 99.9% purity. Currently, LVMC is mining copper ore from two open pits. LVMC expects to operate the current mine until both pits are exhausted in approximately 2028.

On April 11, 2023, the BLM Moab Field Office received a proposal from LVMC to modify its current mine plan. Consistent with the surface management regulations at 43 CFR 3809.411(a), the BLM reviewed the filed plan of operations modification and accepted it as complete on May 5, 2023.

Purpose and Need for the Proposed Action

The BLM's purpose and need are to respond to LVMC's mine plan modification proposal to expand mining operations and associated infrastructure and to prevent unnecessary and undue degradation of the public lands consistent with the BLM's responsibilities under FLPMA, surface management regulations (43 CFR subpart 3809), and use and occupancy regulations (43 CFR subpart 3715).

Preliminary Proposed Action and Alternatives

The proposed action is to modify the mine plan to expand open pit mining and beneficiation operations and to initiate the extraction of copper through a method of in-situ recovery (ISR) mining. The proposed expansion activities would include improvement of existing mining facilities in the mine plan boundary and construction of new facilities and associated access, power, and water facilities in the exploration plan boundary. Under the proposed action there would be approximately 2,391 acres of new surface disturbance (BLM: 1,388 acres; State: 412 acres; and private: 591 acres). Reclamation would be ongoing through the different phases of mining. The life of the mine is anticipated to be 20 years with final reclamation and post-closure monitoring occurring until approximately 2066.

The mine plan modification would include the following components: open pit, backfill area, ISR wellfield (injection wells, pump-back wells, and monitor wells), waste rock storage, storm water diversion channels, sediment basins, berms, heap leach pad, process ponds, solution pipelines, access roads, and ancillary facilities (power supply; reagent, fuel, ready line; crushing area and related stockpiles; area for temporary storage of petroleum-contaminated soils; groundwater monitoring wells; water supply pipeline and facilities; and construction laydown yards).

The proposed disturbance also includes improvements to the existing mining and processing facilities and their associated roads in the mine plan boundary to accommodate the increase in copper production and personnel on site. Ongoing mining activity would continue in the existing mine plan boundary as LVMC constructs the proposed new facilities, which are expected to be completed within three years.

The installation of ISR wellfields would occur in conjunction with open pit mining operations. ISR activities would include the construction of access roads and approximately 1,700 well pads for injection, production, and/or monitoring that would each be 50 feet by 50 feet in size and spaced approximately 125-200 feet apart. LVMC would install the first injection and production wells in an existing pit area for a pilot test for the ISR. The pilot test at the existing pit area would last approximately one year. At the end of the pilot test, the data derived would be used to fine-tune the installation of the ISR wellfield, which would be adjacent to the new open pit. ISR mining would occur for the life of the mine until final reclamation.

In accordance with 40 CFR 1502.14(e), the BLM will develop alternatives to the proposed action in response to resource concerns and public scoping input. Resource concerns likely to influence alternatives development include water and waste management (e.g., waste rock and tailings). One preliminary alternative identified at this stage is the proposed action without ISR mining. The BLM welcomes comments on all preliminary alternatives as well as suggestions for additional alternatives.

Summary of Expected Impacts

Surface and subsurface disturbances associated with open-pit and ISR mining techniques may result in impacts to cultural, biological, visual, and water resources (surface and groundwater, including drinking water). Mining activities would also result in emissions of air pollutants and greenhouse gases.

Anticipated Permits and Authorizations

The following permits and authorizations are anticipated to be required to proceed with the proposed action:

• BLM authorization of the modification to the Plan of Operations Serial No. UTU 072499. (The total acreage of the exploration plan boundary would be reduced commensurate with the total exploration plan area that would get subsumed in the mine plan area.)

• U.S. Environmental Protection Agency authorization of an Aquifer Exemption (Class III Wells) Permit.

• State of Utah, Department of Environmental Quality authorization of Class III and Class V Underground Injection Control Permits, Utah Pollutant Discharge Elimination System Industrial Stormwater Permit (UTR00737), Ground Water Discharge Permit (UGW370005), Approval Order for Emissions Source (DAQE-AN114620014).

• State of Utah, Department of Natural Resources authorization of a Large Mining Permit (M/037/0088), Reclamation Contract (M/037/0088), Exploration Permit (E/037/0115), and Water Rights 05-2593; 05-762.

• San Juan County, Utah authorization of a Conditional Use Permit and a Building Permit.

Schedule for the Decision-Making Process

The BLM will provide additional opportunities for public participation consistent with the NEPA process, including a 45-day comment period on the draft EIS. The draft EIS is anticipated to be available for public review in the winter of 2025, and the final EIS is anticipated to be released in the spring of 2026 with a record of decision also in the spring of 2026.

Public Scoping Process

This notice of intent initiates the scoping period. The BLM will be holding one in-person public scoping meeting in Moab, Utah, and one virtual public scoping meeting. The specific dates and locations of these scoping meetings and any additional scoping meetings will be announced in advance through the BLM Moab Field Office website (https://www.blm.gov/office/moab-field-office), BLM social media, and on the BLM e-Planning page (see ADDRESSES).

Lead and Cooperating Agencies

The lead agency is the BLM. During the scoping process the BLM will invite other Federal, State, and local agencies with special expertise and/or jurisdiction by law to participate as cooperating agencies in the preparation of the EIS. Tribal nations will also be invited to participate as cooperating agencies.

Responsible Official

The responsible official for the BLM is the BLM Utah State Director. The scope of the State Director's decision is limited to the modification to the Plan of Operations Serial No. UTU 072499.

Nature of Decision To Be Made

The BLM will decide whether to authorize modifications to LVMC's mine plan of operations and, if so, under what terms and conditions.

Additional Information

The BLM will identify, analyze, and consider mitigation to address the reasonably foreseeable impacts to resources from the proposed action and all analyzed alternatives and, in accordance with 40 CFR 1502.14(e), include appropriate mitigation measures not already included in the proposed action or alternatives. Mitigation may include avoidance, minimization, rectification, reduction or elimination over time, and compensation; and it may be considered at multiple scales, including the landscape scale.

The BLM will utilize and coordinate the NEPA process to help support compliance with applicable procedural requirements under the Endangered Species Act (16 U.S.C. 1536) and section 106 of the National Historic Preservation Act (54 U.S.C. 306108) as provided in 36 CFR 800.2(d)(3), including public involvement requirements of Section 106. The information about historic and cultural resources and threatened and endangered species within the area potentially affected by the proposed project will assist the BLM in identifying and evaluating impacts to such resources.

The BLM will consult with Tribal nations on a government-to-government basis in accordance with Executive Order 13175, BLM Manual Section 1780, and other Department of the Interior policies. Tribal concerns, including impacts on Indian trust assets and potential impacts to cultural resources, will be given due consideration. Federal, State, and local agencies, along with Tribal nations and other stakeholders that may be interested in or affected by the proposed project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee we will be able to do so.

(Authority: 40 CFR 1501.9)

Gregory Sheehan,
BLM Utah State Director.

[FR Doc. 2024-11646 Filed 5-24-24; 8:45 am]

BILLING CODE 4331-25-P